DEPARTMENT OF HEALTH AND HUMAN SERVICES

National Institutes of Health

Submission for OMB Review; 30-Day Comment Request; Special Volunteer and Guest Researcher Assignment, Office of the Director (OD)

SUMMARY: Under the provisions of Section 3507(a)(1)(D) of the Paperwork Reduction Act of 1995, the National Institutes of Health (NIH), has submitted to the Office of Management and Budget (OMB) a request for review and approval of the information collection listed below. This proposed information collection was previously published in the Federal Register on April 1, 2014 (Volume 79, Number 62), page 18300, and allowed 60 days for public comment. No public comments were received. The purpose of this notice is to allow an additional 30 days for public comment. The Office of Intramural Research (OIR), National Institutes of Health (NIH), may not conduct or sponsor, and the respondent is not required to respond to, an information collection that has been extended, revised, or implemented on or after October 1, 1995, unless it displays a currently valid OMB control number.

Direct Comments To OMB: Written comments and/or suggestions regarding the item(s) contained in this notice, especially regarding the estimated public burden and associated response time, should be directed to the Office of Management and Budget, Office of Regulatory Affairs, OIRA_submission@omb.eop.gov; or sent by fax to 202-395-6974, Attention: NIH Desk Officer.

Comment Due Date: Comments regarding this information collection are best assured of having their full effect if received within 30 days of the date of this publication.

FOR FURTHER INFORMATION CONTACT: To obtain a copy of the data collection plans and instruments, to submit comments in writing, or to request more information on the proposed project, contact Mr. Larry Chloupek, Management Liaison Director, OIR, OD, NIH, 2 Center Drive MSC 0235, Bethesda, MD 20892-0235; or call non-toll-free number 301-594-3992; or email your request, including your address to larry.chloupek@nih.gov. Formal requests for additional plans and instruments must be requested in writing.

Proposed Collection: Special Volunteer and Guest Researcher Assignment, 0925-0177, Expiration Date 07/31/2014, Extension, Office of Intramural Research (OIR), National Institutes of Health (NIH).

Need and Use of Information Collection: Form Number: NIH-590 is a single form completed by an NIH official for each Guest Researcher or Special Volunteer prior to his/her arrival at the NIH. The information on the form is necessary for the approving official to reach a decision on whether to allow a Guest Researcher to use NIH facilities or whether to accept volunteer services offered by a Special Volunteer. If the original assignment is extended, another form notating the extension is completed to update the file.

OMB approval is requested for 3 years. There are no costs to respondents other than their time. The total estimated annualized burden hours are 166.

Estimated Annualized Burden Hours
Type of respondents | Number of respondents | Frequency of response | Average time per response | Annual hour burden
Special Volunteers | 1,250 | 1 | 6/60 | 125
Guest Researchers | 410 | 1 | 6/60 | 41

Dated: July 9, 2014.
Lawrence A. Tabak,
Deputy Director, NIH.

[FR Doc. 2014-16527 Filed 7-14-14; 8:45 am]

BILLING CODE 4140-01-P